DEPARTMENT OF THE INTERIOR

Bureau of Land Management

[ES-960-1910-BJ-4789; ES-053739, Group No. 42, Illinois]

Eastern States: Filing of Plat of Survey

AGENCY: Bureau of Land Management, Interior.

ACTION: Notice of filing of plat of survey; Illinois.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the U.S. Army Corps of Engineers.

The lands we surveyed are:

Fourth Principal Meridian, Illinois

T. 9 S., R. 3 W.

The plat of survey represents the dependent resurvey of a portion of the north boundary, a portion of the subdivisional lines and the survey of the Lock and Dam No. 25 acquisition boundary on two accreted islands in the Mississippi River in Township 9 South, Range 3 West, of the Fourth Principal Meridian, in the State of Illinois, and was accepted on September 28, 2005.

We will place a copy of the plat we described in the open files. It will be made available to the public as a matter of information.

Dated: September 28, 2005.
Stephen D. Douglas,
Chief Cadastral Surveyor.

[FR Doc. 05-20172 Filed 10-6-05; 8:45 am]

BILLING CODE 4310-GJ-P